DEPARTMENT OF ENERGY

Federal Energy Regulatory Commission

Sunshine Act Meeting

AGENCY HOLDING MEETING: Federal Energy Regulatory Commission.

FEDERAL REGISTER CITATION OF PREVIOUS ANNOUNCEMENT: February 7, 2000, 65 FR 5866.

PREVIOUSLY ANNOUNCED TIME AND DATE OF MEETING: February 9, 10:00 a.m.

CHANGE IN THE MEETING: The following Docket No. has been added to Item CAE-15 on the Agenda scheduled for the February 9, 2000 meeting:

Item No. | Docket No. and company
CAE-15 | EL00-41-000, PJM Interconnection L.L.C.

David P. Boergers,
Secretary.

[FR Doc. 00-3432 Filed 2-9-00; 4:27 pm]

BILLING CODE 6717-01-M